SOCIAL SECURITY ADMINISTRATION

Privacy Act of 1974; as Amended

Alteration to Existing Systems of Records

AGENCY: Social Security Administration (SSA)

ACTION: Altered systems of records.

SUMMARY: In accordance with the Privacy Act (5 U.S.C. 552a (e)(4)), we are issuing public notice of our intent to alter and make minor housekeeping changes to two existing systems of records, the Working File of the Appeals Council, HHS/SSA/OHA, 09-60-0004, and the Administrative Law Judge Working File on Claimant Cases System, HHS/SSA/OHA, 09-60-0005, hereinafter referred to as the ALJ Working File, as follows:

• Expansion of the record storage medium in each system of records to include the maintenance of records in electronic form;

• Housekeeping changes that will result in corrections in the systems of records reference number;

• System name;

• Notification procedures;

• Record access procedures; and

• Contesting records procedures.

We also propose to make housekeeping changes to the SSA Litigation Tracking System, HHS/SSA/LS, 09-60-0186 system of records to more accurately reflect the current functions of that system. The proposed changes will include corrections to the following sections of the notice of the SSA Litigation Tracking system of records:

• Systems of records reference number;

• System name;

• Notification procedures;

• Record access procedures;

• Contesting record procedures; and

• System manager.

The proposed alteration and housekeeping changes are discussed in the Supplementary Information section below. We invite public comments on this proposal.

DATES: We filed a report of the proposed altered systems of records with the Chairman of the Senate Committee on Homeland Security and Governmental Affairs, the Chairman of the House Committee on Government Reform, and the Director, Office of Information and Regulatory Affairs, Office of Management and Budget (OMB) on October 5, 2005. The proposed altered systems of records will become effective on November 14, 2005 unless we receive comments that would result in a contrary determination.

ADDRESSES: Interested individuals may comment on this publication by writing to the Executive Director, Office of Public Disclosure, Office of the General Counsel, Social Security Administration, 3-A-6 Operations Building, 6401 Security Boulevard, Baltimore, Maryland 21235-6401. All comments received will be available for public inspection at the above address.

FOR FURTHER INFORMATION CONTACT: Ms. Christine W. Johnson, Lead Social Insurance Specialist, Strategic Issues Team, Office of Public Disclosure, Office of the General Counsel, Social Security Administration, Room 3-A-6 Operations Building, 6401 Security Boulevard, Baltimore, Maryland 21235-6401, telephone at (410) 965-8563, e-mail: chris.w.johnson@ssa.gov.

SUPPLEMENTARY INFORMATION:

I. Background and Purpose of Proposed Alteration to the ALJ Working File and Working File of the Appeals Council Systems of Records

A. General Background

Under Titles II and XVI of the Social Security Act, an individual who has received a partly or wholly unfavorable determination on a claim for benefits has a right to a hearing before an Administrative Law Judge (ALJ). An individual also has a right to an Appeals Council (AC) review of the ALJ's decision.

During the course of adjudicating the claim at the hearing level, ALJs and their staffs may make notes regarding the evidence, testimony, legal theories, merits of the case, and opinions and advice regarding other factors involved in the case. ALJs also generally prepare written instructions to the staff attorney and other personnel regarding case decisions and amendments. These notes are maintained in the ALJ Working File. The notes are used by ALJs and their staffs during the process of disposing of cases on administrative appeal.

In the course of a review at the AC level, communications between the Administrative Appeals Judges (AAJ) and their staffs may include written instructions and opinions, memoranda, case analyses, physician opinions from the AC's Medical Support Staff, draft decisions or orders, and communications prepared by SSA attorneys in the Office of the General Counsel and attorneys in the Department of Justice. These notes are maintained in the Working File of the Appeals Council and are used by the AAJs and their staffs to dispose of cases at the AC review level.

B. Discussion of Proposed Alteration to the ALJ Working File and Working File of the Appeals Council Systems of Records

Currently, the records in these systems of records are maintained in paper form. The purpose of the alteration is to expand the record storage medium to include records in electronic form. The proposed alteration will align these systems with SSA's E-Government initiative to transition paper-based, program functions into the electronic environment.

II. Records Storage Medium and Safeguards for the Information Maintained in the Proposed Altered ALJ Working File and Working File of the Appeals Council Systems of Records

The ALJ Working File and Working File of the Appeals Council systems of records will maintain information in paper and electronic form. Only authorized hearing office and Appeals Council personnel that have a need for the information in the performance of their official duties are permitted access to the information. Security measures include the use of access codes to enter the computer system that will maintain the data, and storage of the computerized records in secured areas that are accessible only to employees who require the information in performing their official duties. Manually maintained records are kept in locked cabinets or in otherwise secure areas.

III. Effect of the Proposed Alteration to the ALJ Working File and Working File of the Appeals Council Systems of Records on the Rights of Individuals

The proposed alteration to the ALJ Working File and the Working File of the Appeals Council systems of records pertains to SSA's responsibilities in expanding the record storage medium to accommodate the maintenance of records in electronic form. We will adhere to all applicable statutory requirements, including those under the Social Security Act and the Privacy Act, in carrying out our responsibilities. Therefore, we do not anticipate that the proposed alteration to these systems will have an unwarranted adverse effect on the rights of individuals.

IV. Minor Housekeeping Changes in the ALJ Working File, Working File of the Appeals Council, and SSA Litigation Tracking Systems of Records

When these systems of records were last published, SSA was a part of the Department of Health and Human Services (DHHS). The Social Security Administration became an independent agency in August 1994; therefore, the following changes concerning DHHS are in compliance with legislative changes. (See Pub. L. 103-296).

1. ALJ Working File and Working File of the Appeals Council Systems of Records

(a) We have revised the numbering system of the ALJ Working File and Working File of the Appeals Council systems of records by changing the identification reference numbers from “09-60-0004,” and “09-60-0005,” to “60-0004,” and “60-0005,” respectively. The “09” digits referenced these systems of records as HHS systems of records.

(b) System name—we have revised this section in the ALJ Working File, Working File of the Appeals Council systems of records by deleting any reference to the DHHS.

(c) Notification procedures, Record access procedures, and Contesting records procedures—we have revised these sections in the ALJ Working File and Working File of the Appeals Council systems of records by deleting any reference to DHHS regulations.

2. SSA Litigation Tracking System of Records

(a) We have revised the numbering system of the SSA Litigation Tracking system of records by changing the identification reference number from “09-60-0186,” to “60-0186”. The “09” digits referenced the system of records as an HHS system of records.

(b) System name—we have revised this section in the SSA Litigation Tracking system of records by deleting any reference to the DHHS and “SSA/LS” due to changes in the legislation and organizational changes within SSA. We have also corrected the system name to the Civil Action Tracking System to appropriately reflect current system functions. (See the System name in the Notice below).

(c) Notification procedures, Record access procedures, and Contesting records procedures—we have revised these sections in the SSA Litigation Tracking systems of records by deleting any reference to DHHS regulations.

(d) System manager—we have revised this section in the SSA Litigation Tracking system of record to reflect the name of the SSA component having substantive responsibility for the system of records. (See the System manager name section in the notice below).

Dated: October 5, 2005.
Jo Anne B. Barnhart,
Commissioner.

SYSTEM NUMBER: 60-0004

System Name:

Working File of the Appeals Council, Social Security Administration, Office of Hearings and Appeals.

Security Classification:

None.

System Location:

Social Security Administration, Office of Hearings and Appeals, 5107 Leesburg Pike, Falls Church, Va. 22041.

Categories of Individuals Covered by the System:

Claimants-Title II (Retirement and Survivors Insurance (RSI) and Disability Insurance (DI); Title VIII (Special Veterans Benefits); Title XI (claimants subject to Professional Standards Review); Title XVI (Supplemental Security Income (SSI); and Title XVIII (Hospital Insurance (HI). Effective October 1, 2005, SSA only has jurisdiction to determine eligibility for Title XVIII benefits, not the benefit amount.

Categories of Records in the System:

This file generally contains: Hearing and Appeals analyst's recommendation to the Appeals Council (AC); a copy of the Administrative Law Judge (ALJ) decision or dismissal; a copy of the Request for Review by the AC form; requests to Medical Support Staff for comments and their responses, if not entered into the record; copies of AC actions on the case; notice of denial of request for review, notice of granting review, AC decisions; and copies of transcripts when available.

Authority for Maintenance of the System:

Sections 205 and 1631(d)(1) of the Social Security Act, as amended.

Purpose(s):

This system of records is established to be an internal working file used in connection with a recommendation to, or action by, the AC in an individual case. Members of the AC and their support staff use the file when working on cases on appeal. Where a favorable AC decision is issued, the records are used to process representative fees.

Routine uses of records maintained in the system, including categories of users and the purposes of such uses: Disclosure may be made for routine uses as indicated below:

1. To a congressional office in response to an inquiry from that office made at the request of the subject of a record.

2. To DOJ, a court or other tribunal, or another party before such tribunal when:

(a) SSA, any component thereof; or

(b) any SSA employee in his/her official capacity; or

(c) any SSA employee in his/her individual capacity where DOJ (or SSA where it is authorized to do so) has agreed to represent the employee; or

(d) the United States or any agency thereof where SSA determines that the litigation is likely to affect the operations of SSA or any of its components, is a party to litigation or has an interest in such litigation, and SSA determines that the use of such records by DOJ, the court or other tribunal is relevant and necessary to the litigation, provided, however, that in each case, SSA determines that such disclosure is compatible with the purpose for which the records were collected.

However, any other information defined as “return or return information” under 26 U.S.C. § 6103 of the Internal Revenue Code (IRC) will not be made unless authorized by the IRC, the Internal Revenue Service (IRS), or IRS regulations.

3. To IRS, as necessary, for the purpose of auditing SSA's compliance with safeguard provisions of the IRC of 1986, as amended.

4. Information may be disclosed to contractors and other Federal agencies, as necessary, for the purpose of assisting SSA in the efficient administration of its programs. We contemplate disclosing information under this routine use only in situations in which SSA may enter into a contractual or similar agreement with a third party to assist in accomplishing an agency function relating to this system of records.

5. Non-tax return information which is not restricted from disclosure by Federal law may be disclosed to the General Services Administration (GSA) and the National Archives and Records Administration (NARA) under 44 U.S.C. 2904 and 2906, as amended by the NARA Act of 1984, for the use of those agencies in conducting records management studies.

6. To student volunteers and other workers, who technically do not have the status of Federal employees, when they are performing work for SSA as authorized by law, and they need access to personally identifiable information in SSA records in order to perform their assigned Agency functions.

Policies and Practices for Storing, Retrieving, Accessing, Retaining and Disposing of Records in the System:

Storage:

Records are maintained in paper and electronic form (e.g., paper folder files on filing shelves or electronically on disc).

Retrievability:

Records are retrieved by Social Security number (SSN) or name.

Safeguards:

System security is maintained in accordance with the Systems Security Handbook. Access to and use of both paper and electronic records is limited to those persons whose official duties require such access. All employees are instructed in SSA confidentiality rules as part of their initial orientation training.

Records maintained in paper form are kept in locked file cabinets or in otherwise secure areas. In many cases records are selected for the employees needing access to them by other employees who are specifically charged with the maintenance of the records. This safeguard restricts the number of persons authorized to be in the storage areas and facilitates control over the access to the information contained in the records to those who need it.

For computerized records, electronically transmitted between SSA's central office and field office locations, safeguards include a lock/unlock password system, exclusive use of leased telephone lines, a terminal oriented transaction matrix and an audit trail. Access http://www.ssa.gov/foia/bluebook/app_g.htm for additional information regarding the safeguards SSA employs to protect its paper and automated records.

Retention and Disposal:

One year after final AC action, paper and electronic records will be shredded and/or deleted as appropriate.

System Manager(s) and Address:

Associate Commissioner, Office of Hearings and Appeals, Social Security Administration, 5107 Leesburg Pike, Falls Church, Va. 22041.

Notification Procedures:

An individual can determine if this system contains a record about him/her by writing to the system manager(s) at the above address and providing his/her name, SSN or other information that may be in the system of records that will identify him/her. An individual requesting notification of records in person should provide the same information, as well as provide an identity document, preferably with a photograph, such as a driver's license or some other means of identification, such as a voter registration card or credit card. If an individual does not have any identification documents sufficient to establish his/her identify, the individual must certify in writing that he/she is the person claimed to be and that he/she understands that the knowing and willful request for, or acquisition of, a record pertaining to another individual under false pretenses is a criminal offense.

If notification is requested by telephone, an individual must verify his/her identity by providing identifying information that parallels the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40).

Record Access Procedures:

Same as Notification procedures. Requesters should also reasonably specify the record contents being sought. These procedures are in accordance with SSA Regulations (20 CFR 401.40(c)).

Contesting Record Procedures:

Same as Notification procedures. Requesters should also reasonably identify the record, specify the information they are contesting and state the corrective action sought and the reasons for the correction with supporting justification showing how the record is incomplete, untimely, inaccurate or irrelevant. These procedures are in accordance with SSA Regulations (20 CFR 401.65(a)).

Record Source Categories:

Claimants, their representatives, appropriate members of the public, SSA and other Federal, State and local agencies.

Systems Exempted from Certain Provisions of the Privacy Act:

None.

SYSTEM NUMBER: 60-0005

System Name:

ALJ Working File, Social Security Administration, Office of Hearings and Appeals.

Security Classification:

None.

System Location:

Local hearing offices. Access http://www.ssa.gov/foia/bluebook/app_f.htm for address information.

Categories of Individuals Covered by the System:

Claimants—Title II (Retirement and Survivors Insurance (RS) and Disability Insurance (DI)); Title VIII (Special Veterans Benefits); Title XI (claimants subject to Professional Standards Review); Title XVI (Supplemental Security Insurance (SSI)); and Title XVIII (Hospital Insurance (HI)). Effective October 1, 2005 SSA only has jurisdiction to determine eligibility for Title XVIII benefits, not the benefit amount.

Categories of Records in the System:

These files are established in the hearing office as a record of actions taken on each particular case. The file may contain copies of the Notice of Hearing, Decision on Dismissal, and the Exhibit List when one is prepared, a copy of congressional inquiries and responses thereto as well as copies of post-adjudicative material received and any responses made, but not official copies, which are placed in claim folders. These files also usually contain working papers such as notes taken during the hearing by the Administrative Law Judge (ALJ); case analyses prepared by hearing office employees; case file cover sheets and other developmental and/or instructional sheets.

Authority for Maintenance of the System:

Sections 205 and 1631(d)(1) of the Social Security Act, as amended.

Purpose(s):

This system is used to reference the actions taken in a particular case at the hearing level. The ALJ or hearing office staff uses the information to reply to future correspondence.

Routine Uses of Records Maintained in the System, Including Categories of Users and the Purposes of Such Uses:

Disclosure may be made for routine uses as indicated below:

1. To a congressional office in response to an inquiry from that office made at the request of the subject of a record.

2. To DOJ, a court or other tribunal, or another party before such tribunal when:

(a) SSA, any component thereof; or

(b) any SSA employee in his/her official capacity; or

(c) any SSA employee in his/her individual capacity where DOJ (or SSA where it is authorized to do so) has agreed to represent the employee; or

(d) the United States or any agency thereof where SSA determines that the litigation is likely to affect the operations of SSA or any of its components, is a party to litigation or has an interest in such litigation, and SSA determines that the use of such records by DOJ, the court or other tribunal is relevant and necessary to the litigation, provided, however, that in each case, SSA determines that such disclosure is compatible with the purpose for which the records were collected.

However, any information defined as “return or return information” under 26 U.S.C. 6103 of the Internal Revenue Code (IRC) will not be made unless authorized by the IRC, the Internal Revenue Service (IRS), or IRS regulations.

3. To IRS, as necessary, for the purpose of auditing SSA's compliance with safeguard provisions of the IRC of 1986, as amended.

4. Information may be disclosed to contractors and other Federal agencies, as necessary, for the purpose of assisting SSA in the efficient administration of its programs. We contemplate disclosing information under this routine use only in situations in which SSA may enter into a contractual or similar agreement with a third party to assist in accomplishing an agency function relating to this system of records.

5. Non-tax return information which is not restricted from disclosure by Federal law may be disclosed to the General Services Administration (GSA) and the National Archives and Records Administration (NARA) under 44 U.S.C. 2904 and 2906, as amended by the NARA Act of 1984, for the use of those agencies in conducting records management studies.

6. To student volunteers and other workers, who technically do not have the status of Federal employees, when they are performing work for SSA as authorized by law, and they need access to personally identifiable information in SSA records in order to perform their assigned Agency functions.

7. To Federal, State, and local law enforcement agencies and private security contractors, as appropriate, if information is necessary—

(a) To enable them to protect the safety of SSA employees and customers, the security of the SSA workplace and the operation of SSA facilities, or

(b) To assist investigations or prosecutions with respect to activities that affect such safety and security or activities that disrupt the operation of SSA facilities.

Policies and Practices for Storing, Retrieving, Accessing, Retaining and Disposing of Records in the System:

Storage:

Records in this system are maintained in paper and electronic form (e.g., paper folder files on filing shelves or electronically on disc).

Retrievability:

Records are indexed and retrieved alphabetically by claimants' names in paper form and may be retrieved by claimant name and social security number (SSN) electronically.

Safeguards:

System security is maintained in accordance with the Systems Security Handbook. Access to and use of both paper and electronic records are limited to those persons whose official duties require such access. All employees are instructed in SSA confidentiality rules as part of their initial orientation training.

Records maintained in paper form are kept in locked file cabinets or in otherwise secure areas. In many cases records are selected for the employees needing access to them by other employees who are specifically charged with the maintenance of the records. This safeguard restricts the number of persons authorized to be in the storage areas and facilitates control over the access to the information contained in the records to those who need it.

For computerized records, electronically transmitted between SSA's central office and field office locations, safeguards include a lock/unlock password system, exclusive use of leased telephone lines, a terminal oriented transaction matrix and an audit trail. Access http://www.ssa.gov/foia/bluebook/app_g.htm for additional information regarding the safeguards SSA employs to protect its paper and automated records.

Retention and Disposal:

Paper records are destroyed by shredding 2 years after the final action is taken. Electronic records are destroyed by deletion 2 years after the final action is taken.

System Manager(s) and Address:

Associate Commissioner, Office of Hearings and Appeals, Social Security Administration, 5107 Leesburg Pike, Falls Church, VA 22041.

Notification Procedures:

An individual can determine if this system contains a record about him/her by writing to the hearing office (access http://www.ssa.gov/foia/bluebook/app_f.htm for address information).

An individual can also determine if this system contains a record about him/her by writing to the system manager(s) at the above address and providing his/her name, SSN or other information that may be in the system of records that will identify him/her. An individual requesting notification of records in person should provide the same information, as well as provide an identity document, preferably with a photograph, such as a driver's license or some other means of identification, such as voter registration card, credit card, etc. If an individual does not have any identification documents sufficient to establish his/her identify, the individual must certify in writing that he/she is the person claimed to be and that he/she understands that the knowing and willful request for, or acquisition of, a record pertaining to another individual under false pretenses is a criminal offense.

If notification is requested by telephone, an individual must verify his/her identity by providing identifying information that parallels the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40).

Record Access procedures:

Same as Notification procedures. Requesters should also reasonably specify the record contents being sought. These procedures are in accordance with SSA Regulations (20 CFR 401.40(c)).

Contesting Record Procedures:

Same as Notification procedures. Requesters should also reasonably identify the record, specify the information they are contesting and state the corrective action sought and the reasons for the correction with supporting justification showing how the record is incomplete, untimely, inaccurate or irrelevant. These procedures are in accordance with SSA Regulations (20 CFR 401.65(a)).

Record Source Categories:

Claimants, their representatives, appropriate members of the public, SSA and other Federal, State and local agencies.

Systems Exempted From Certain Provisions of the Privacy Act:

None.

SYSTEM NUMBER: 60-0186

System Name:

Civil Action Tracking System.

Security Classification:

None.

System Location:

Social Security Administration, Office of the General Counsel, 6401 Security Blvd., Baltimore, MD 21235.

Categories of Individuals Covered by the System:

Individuals who are involved, as plaintiffs, in class action litigation concerning one or more of the programs administered by the Social Security Administration (SSA), who are affected by an Acquiescence Ruling (AR). When SSA determines that a holding in a Circuit Court decision conflicts with our interpretation of a provision of the Social Security Act or regulation, SSA issues an AR. When we publish an AR, we send notices to those individuals whose claims may be affected. The notice tells the claimant that an AR may affect a prior decision. In this regard, the Civil Action Tracking System (CATS) contains a given claimant's Social Security number (SSN), name and address, and maintains a list of those claimants possibly affected by the AR.

Categories of Records in the System:

Records for individuals involved in the class action contain beneficiary and claims-related information from SSA's Master Beneficiary Record (MBR) and/or the Supplemental Security Income Record (SSR). During the lifetime of the implementation of the court order, the records will also contain information about notices sent, reply forms received, alerts generated, class membership screenings and decisions. With respect to an AR, as mentioned above, CATS contains basic information (e.g., SSN, name and address) that came from one of SSA's master files or was typed into CATS in the case of a walk-in.

Authority for Maintenance of the System:

Section 205(a) of the Social Security Act (42 U.S.C. 405(a)).

Purpose(s):

Records in this system are used by staff in various SSA offices to implement court orders and settlement agreements related to class actions.

From an AR standpoint, we use CATS to store addresses to send notices to claimants affected by an AR.

Routine Uses of Records Maintained in the System, Including Categories of Users and the Purposes of Such Uses:

Disclosure may be made for routine uses as indicated below:

1. To a congressional office in response to an inquiry from that office about an individual claimant made at the request of the subject of a record.

2. To DOJ, a court or other tribunal, or another party before such tribunal when:

(a) SSA, or any component thereof; or

(b) any SSA employee in his/her official capacity; or

(c) any SSA employee in his/her individual capacity where DOJ (or SSA where it is authorized to do so) has agreed to represent the employee; or

(d) the United States or any agency thereof where SSA determines that the litigation is likely to affect the operations of SSA or any of its components, is a party to litigation or has an interest in such litigation, and SSA determines that the use of such records by DOJ, the court or other tribunal is relevant and necessary to the litigation, provided, however, that in each case, SSA determines that such disclosure is compatible with the purpose for which the records were collected.

However, any information defined as “return or return information” under 26 U.S.C. 6103 of the Internal Revenue Code (IRC) will not be made unless authorized by the IRC, the Internal Revenue Service (IRS), or IRS regulations.

3. To IRS, as necessary, for the purpose of auditing SSA's compliance with the safeguard provisions of the Internal Revenue Code (IRC) of 1986, as amended.

4. Non-tax return information which is not restricted from disclosure by Federal law may be disclosed to the General Services Administration (GSA) and the National Archive and Records Administration (NARA) for the purpose of conducting records management studies with respect to their duties and responsibilities under 44 U.S.C. 2904 and 2906, as amended by NARA Act of 1984.

5. To student volunteers and other workers, who technically do not have the status of Federal employees, when they are performing work for SSA as authorized by law, and they need access to personally identifiable information in SSA records to perform their assigned Agency functions.

Policies and Practices for Storing, Retrieving, Accessing, Retaining, and Disposing of Records in the System:

Storage:

Records are maintained on mainframe computer disk and cartridges. Occasionally, there may be paper copies of small amounts of data.

Retrievability:

The records are retrieved by the Beneficiary's SSN, last name, and date of birth.

Safeguards:

Files in this system are maintained in SSA's secure computer center and occasionally in paper form in desks or file cabinets that lock. Access to the files is limited to employees who require the files to perform their duties. All personnel having access to the records have been informed of criminal sanctions for unauthorized disclosure of information relating to individuals. Access http://www.ssa.gov/foia/bluebook/app_g.htm for additional information regarding the safeguards SSA employs to protect its paper and automated.

Retention and Disposal:

Records are archived on mainframe computer cartridges when the implementation of the court order is completed. The cartridges are stored indefinitely in a secured location.

System Manager(s) and Address:

Director, Management Information and Process Analysis Staff, Office of the General Counsel, Social Security Administration, 6401 Security Boulevard, Baltimore, MD 21235.

Notification Procedures:

An individual can determine if this system contains a record about him/her by writing to the systems manager(s) at the above address and providing his/her name, SSN or other information that may be in the system of records that will identify him/her. An individual requesting notification of records in person should provide the same information, as well as provide an identity document, preferably with a photograph, such as a driver's license or some other means of identification, such as a voter registration card, credit card, etc. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40).

Record Access Procedures:

Same as notification procedures. Requesters should also reasonably specify the record contents being sought. These procedures are in accordance with SSA Regulations (20 CFR 401.40(c)).

Contesting Record Procedures:

Same as notification procedures. Requesters should also reasonably identify the record, specify the information being contested and state the corrective action sought and the reasons for the correction with supporting justification showing how the record is untimely, incomplete, inaccurate or irrelevant. These procedures are in accordance with SSA Regulations (20 CFR 401.65(a)).

Record Source Categories:

Systems of records maintained by SSA such as the Claims Folders System, 60-0089; Master Beneficiary Record, 60-0090; Supplement Security Income Record and Special Veterans Benefits 60-0103.

Systems Exempted From Certain Provisions of the Privacy Act:

None.

[FR Doc. 05-20696 Filed 10-14-05; 8:45 am]

BILLING CODE 4191-02-P